COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products to be furnished by nonprofit agencies employing persons who are blind or have other severe disabilities.

Comments Must Be Received On or Before: October 20, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the possible impact of the proposed actions.

If the Committee approves the proposed additions, the entities of the Federal Government identified in the notice for each product will be required to procure the products listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited.

Commenters should identify the statement(s) underlying the certification on which they are providing additional information.

The following products are proposed for addition to Procurement List for production by the nonprofit agencies listed:

Products

Product/NSN: Binder, Award, Certificate

7510-01-390-0712.

NPA: Dallas Lighthouse for the Blind, Inc., Dallas, Texas.

Contract Activity: General Services Administration, Single Award Schedule.

Product/NSN: Braided Nylon, Type II Parachute Cord

4020-00-262-2019.

NPA: East Texas Lighthouse for the Blind, Tyler, Texas.

Contract Activity: Defense Supply Center Philadelphia, Philadelphia, Pennsylvania.

Product/NSN: Dog Collar and Leash

M.R. 1975 (Collar Small).

M.R. 1976 (Collar Medium).

M.R. 1977 (Collar Large).

M.R. 1978 (Leash).

NPA: L.C. Industries For The Blind, Inc., Durham, North Carolina.

Contract Activity: Defense Commissary Agency (DeCA), Ft. Lee, Virginia.

Product/NSN: Flashlight, Aluminum

6230-00-NIB-0004 (2AA, Black).

6230-00-NIB-0005 (2AA, Blue).

6230-00-NIB-0006 (2AA, Red).

6230-00-NIB-0007 (2AA, Silver).

6230-00-NIB-0008 (2D, Black).

6230-00-NIB-0009 (2D, Blue).

6230-00-NIB-0010 (2D, Red).

6230-00-NIB-0011 (2D, Silver).

6230-00-NIB-0012 (3D, Black).

6230-00-NIB-0013 (3D, Blue).

6230-00-NIB-0014 (3D, Red).

6230-00-NIB-0015 (3D, Silver).

6230-00-NIB-0016 (4D, Black).

6230-00-NIB-0017 (4D, Blue).

6230-00-NIB-0018 (4D, Red).

6230-00-NIB-0019 (4D, Silver).

6230-00-NIB-0020 (5D, Black).

6230-00-NIB-0021 (5D, Blue).

6230-00-NIB-0022 (5D, Red).

6230-00-NIB-0023 (5D, Silver).

NPA: Central Association for the Blind & Visually Impaired, Utica, New York.

Contract Activity: General Services Administration, Single Award Schedule.

Product/NSN: Kit, Troop Seat

2540-01-185-3216.

NPA: Tuscola County Community Mental Health Services, Caro, Michigan.

Contract Activity: U.S. Army Tank-Automotive & Armaments Command, Warren, Michigan.

Product/NSN: Paper, Xerographic

7530-01-454-8006.

NPA: Louisiana Association for the Blind, Shreveport, Louisiana.

Contract Activity: General Services Administration, Single Award Schedule.

Sheryl D. Kennerly,
Director, Information Management.

[FR Doc. 02-23966 Filed 9-19-02; 8:45 am]

BILLING CODE 6353-01-P